DEPARTMENT OF ENERGY

Federal Energy Regulatory Commission

Combined Notice of Filings #1

Take notice that the Commission received the following electric corporate filings:

Docket Numbers: EC25-18-000.

Applicants: Fairbanks Solar Energy Center LLC, Northern Indiana Public Service Company LLC.

Description: Joint Application for Authorization Under Section 203 of the Federal Power Act of Fairbanks Solar Energy Center LLC, et al.

Filed Date: 11/8/24.

Accession Number: 20241108-5231.

Comment Date: 5 p.m. ET 11/29/24.

Docket Numbers: EC25-19-000.

Applicants: Brookfield Asset Management ULC, Brookfield Corporation.

Description: Joint Application for Authorization Under Section 203 of the Federal Power Act of Brookfield Asset Management ULC, et al.

Filed Date: 11/8/24.

Accession Number: 20241108-5233.

Comment Date: 5 p.m. ET 11/29/24.

Docket Numbers: EC25-20-000.

Applicants: Innovative Solar 42, LLC, Blue Harvest Solar Park LLC, Timber Road Solar Park LLC.

Description: Joint Application for Authorization Under Section 203 of the Federal Power Act of Blue Harvest Solar Park LLC, et al.

Filed Date: 11/12/24.

Accession Number: 20241112-5408.

Comment Date: 5 p.m. ET 12/3/24.

Take notice that the Commission received the following electric rate filings:

Docket Numbers: ER22-871-002; ER22-2925-002; ER22-2926-002.

Applicants: Jicarilla Storage 1 LLC, Jicarilla Solar 1 LLC, Jicarilla Solar 2 LLC.

Description: Response to October 11, 2024, Deficiency Letter of Jicarilla Solar 2 LLC et al.

Filed Date: 11/12/24.

Accession Number: 20241112-5411.

Comment Date: 5 p.m. ET 12/3/24.

Docket Numbers: ER22-2310-001.

Applicants: PacifiCorp.

Description: Compliance filing: Further Compliance Filing for Order No. 881 to be effective N/A.

Filed Date: 11/12/24.

Accession Number: 20241112-5359.

Comment Date: 5 p.m. ET 12/3/24.

Docket Numbers: ER22-2318-003.

Applicants: MATL LLP.

Description: Compliance filing: November 2024 Compliance Filling Order No. 881 to be effective 7/12/2025.

Filed Date: 11/12/24.

Accession Number: 20241112-5345.

Comment Date: 5 p.m. ET 12/3/24.

Docket Numbers: ER22-2356-003.

Applicants: Public Service Company of Colorado

Description: Compliance filing: 2024-11-13—Att S—Order 881 Compliance Filing to be effective N/A.

Filed Date: 11/13/24.

Accession Number: 20241113-5097.

Comment Date: 5 p.m. ET 12/4/24.

Docket Numbers: ER22-2466-001.

Applicants: Cube Yadkin Transmission LLC.

Description: Compliance filing: Order No. 881 Compliance Filing to be effective N/A.

Filed Date: 11/12/24.

Accession Number: 20241112-5361.

Comment Date: 5 p.m. ET 12/3/24.

Docket Numbers: ER24-2795-001.

Applicants: Nantucket Electric Company.

Description: Tariff Amendment: 2024-11-13 Nantucket Electric Co. Amendments to Proposed FERC Tariff No. 1 to be effective 12/31/9998.

Filed Date: 11/13/24.

Accession Number: 20241113-5130.

Comment Date: 5 p.m. ET 12/4/24.

Docket Numbers: ER24-2796-001.

Applicants: Massachusetts Electric Company.

Description: Tariff Amendment: 2024-11-13 Massachusetts Electric Co. Amendments to Proposed FERC Tariff No. 3 to be effective 12/31/9998.

Filed Date: 11/13/24.

Accession Number: 20241113-5129.

Comment Date: 5 p.m. ET 12/4/24.

Docket Numbers: ER25-414-000.

Applicants: Midcontinent Independent System Operator, Inc.

Description: § 205(d) Rate Filing: 2024-11-12_SA 4377 Ameren Illinois-Archtop Property Management GIA (S1041) to be effective 10/25/2024.

Filed Date: 11/12/24.

Accession Number: 20241112-5341.

Comment Date: 5 p.m. ET 12/3/24.

Docket Numbers: ER25-415-000.

Applicants: Southwest Power Pool, Inc.

Description: Tariff Amendment: 2177 Rocky Ridge Wind Project, LLC GIA Cancellation to be effective 11/7/2024.

Filed Date: 11/13/24.

Accession Number: 20241113-5025.

Comment Date: 5 p.m. ET 12/4/24.

Docket Numbers: ER25-416-000.

Applicants: New York Independent System Operator, Inc., Niagara Mohawk Power Corporation.

Description: § 205(d) Rate Filing: New York Independent System Operator, Inc. submits tariff filing per 35.13(a)(2)(iii: NMPC 205: Request for Order Authorizing Abandoned Plant Incentive to be effective 1/13/2025.

Filed Date: 11/13/24.

Accession Number: 20241113-5044.

Comment Date: 5 p.m. ET 12/4/24.

Docket Numbers: ER25-417-000.

Applicants: PJM Interconnection, L.L.C.

Description: § 205(d) Rate Filing: Amendment to GIA, Service Agreement No. 7233; AG1-348 to be effective 1/13/2025.Filed Date: 11/13/24.

Accession Number: 20241113-5045.

Comment Date: 5 p.m. ET 12/4/24.

Docket Numbers: ER25-418-000.

Applicants: Arizona Public Service Company.

Description: § 205(d) Rate Filing: Service Agreement Nos. 425-427 to be effective 10/14/2024.

Filed Date: 11/13/24.

Accession Number: 20241113-5047.

Comment Date: 5 p.m. ET 12/4/24.

Docket Numbers: ER25-419-000.

Applicants: PJM Interconnection, L.L.C.

Description: § 205(d) Rate Filing: Original GIA, SA No. 7398; Project Identifier AG1-487 to be effective 10/14/2024.

Filed Date: 11/13/24.

Accession Number: 20241113-5064.

Comment Date: 5 p.m. ET 12/4/24.

Docket Numbers: ER25-421-000.

Applicants: Skipjack Solar Center, LLC.

Description: Baseline eTariff Filing: Shared Facilities Agreement filing to be effective 12/30/2024.

Filed Date: 11/13/24.

Accession Number: 20241113-5070.

Comment Date: 5 p.m. ET 12/4/24.

Docket Numbers: ER25-422-000.

Applicants: PJM Interconnection, L.L.C.

Description: § 205(d) Rate Filing: Amendment to WMPA SA No. 4410, Queue No. Z2-077 to be effective 1/13/2025.

Filed Date: 11/13/24.

Accession Number: 20241113-5078.

Comment Date: 5 p.m. ET 12/4/24.

Docket Numbers: ER25-423-000.

Applicants: Ameren Illinois Company.

Description: § 205(d) Rate Filing: Filing of Reimbursement Agreement to be effective 1/13/2025.

Filed Date: 11/13/24.

Accession Number: 20241113-5079.

Comment Date: 5 p.m. ET 12/4/24.

Docket Numbers: ER25-424-000.

Applicants: Earthrise Gibson City Interconnection, LLC.

Description: § 205(d) Rate Filing: Shared Facilities & Use Agreement with Archtop Property Management to be effective 1/10/2025.

Filed Date: 11/13/24.

Accession Number: 20241113-5115.

Comment Date: 5 p.m. ET 12/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 13, 2024.
Carlos D. Clay,
Acting Deputy Secretary.

[FR Doc. 2024-26942 Filed 11-18-24; 8:45 am]

BILLING CODE 6717-01-P